DEPARTMENT OF TRANSPORTATION

Federal Aviation Administration

Public Notice for Waiver of Aeronautical Land-Use Assurance

AGENCY: Federal Aviation Administration (FAA), DOT.

ACTION: Notice of intent of waiver with respect to land; Bowman Municipal Airport, BPP, Bowman, North Dakota.

SUMMARY: The FAA is considering a proposal to change 162.71 acres of airport land from aeronautical use to non-aeronautical use and to authorize the sale of airport property located at the former Bowman Municipal Airport, BPP, Bowman, ND. The aforementioned land is not needed for aeronautical use because the new Bowman Regional Airport, BWW, Bowman, ND is open and available for public aeronautical use.

The former Bowman Airport BPP site is located one mile west of the City of Bowman, ND and parallel to the north of U.S. Highway 12. The airport's prior aeronautical use was for general aviation and recreational flying. The proposed non-aeronautical use of the property will be converted to industrial use by the local economic development group.

DATES: Comments must be received on or before January 12, 2017.

ADDRESSES: Documents are available for review by appointment at the FAA Dakota-Minnesota Airports District Office, Mark J. Holzer, FAA Program Manager, 2301 University Drive-Bldg. 23B, Bismarck, ND 58504 Telephone: 701-323-7393/Fax: 701-323-7399 and Bowman County Airport Authority, P.O. Box 331, Bowman, ND 58623 Telephone Gary Brennan 701-523-3340.

Written comments on the Sponsor's request must be delivered or mailed to: Mark J. Holzer, FAA Program Manager, Federal Aviation Administration, Dakota-Minnesota Airports District Office, 2301 University Drive-Bldg. 23B, Bismarck, ND 58504 Telephone: 701-323-7393/Fax: 701-323-7399.

FOR FURTHER INFORMATION CONTACT: Laurie J. Suttmeier, Assistant Manager, Federal Aviation Administration, Dakota-Minnesota Airports Bismarck District Office, 2301 University Drive-Bldg. 23B, Bismarck, ND 58504 Telephone: 701-323-7380/Fax: 701-323-7399.

SUPPLEMENTARY INFORMATION: In accordance with section 47107(h) of Title 49, United States Code, this notice is required to be published in the Federal Register 30 days before modifying the land-use assurance that requires the property to be used for an aeronautical purpose.

The former Bowman Airport Site was a general aviation and recreational airport located on the west side of the City of Bowman, ND. The land was acquired by the Bowman County Airport Authority with funding assistance from the FAA AIP and ADAP, ND State Aeronautics Commission and Bowman County tax revenues. The airport sponsor plans to sell the land back to Bowman County for industrial land use at the appraised Fair Market Value.

The disposition of proceeds from the sale of the airport property will be in accordance with FAA's Policy and Procedures Concerning the Use of Airport Revenue, published in the Federal Register on February 16, 1999 (64 FR 7696). Approval does not constitute a commitment by the FAA to financially assist in the change in use of the subject airport property nor a determination of eligibility for grant-in-aid funding from the FAA.

This notice announces that the FAA is considering the release of the subject airport property at the former Bowman Municipal Airport, BPP, Bowman, ND from all federal land covenants, subject to a reservation for continuing right of flight as well as restrictions on the released property as required in FAA Order 5190.6B section 22.16. Approval does not constitute a commitment by the FAA to financially assist in the disposal of the subject airport property nor a determination of eligibility for grant-in-aid funding from the FAA.

Property Description

A tract of land located in Section 10, T131N, R102W, NE1/4 of Section 9, T131N, R102W, and the SE1/4 of Section 4, T131N, R102W of the 5th Principal Meridian, Bowman County, North Dakota, more particularly described as follows:

Beginning at a point on the West line of Section 10, T131N, R102W, a distance of 163.50 feet south of the NW corner of said section. Thence N 74°58′10″ W, a distance of 627.41 feet along the Southerly Right-of-Way line of the BNSF railroad to the North Section line of Section 9, T131N, R102W; thence continuing along said Right-of-Way line, a distance of 2,105.12 feet to the West line of the SE Quarter of Section 4; thence S 0°00′21″ W along the said West line, a distance of 548.58 feet; thence N 89°55′31″ E, a distance of 697.45 feet along the North line of said Section 9; thence S 54°56′42″ E, a distance of 2,373.23 feet along the South side of a tract described in document number 87877 to the West line of said Section 10; thence S 0°09′22″ E, a distance of 759.22 feet along the West line of said Section 10; thence S 89°58′09″ E, a distance of 544.00 feet along the North line of a tract described in document number 97571; thence S 0°05′30″ W, a distance of 511.00 feet along the East side of said document; thence S 89°53′05″ E, a distance of 118.90 feet along the North side of tract described in document number 127200; thence S 89°50′08″ E, a distance of 215.99 feet along the North side of a tract described in document number 82638; thence S 89°48′22″ E, a distance of 96.57 feet along the North side of a tract described in document number 115722; thence N 89°58′57″ E, a distance of 45.73 feet along the North side of a tract described in document number 115721; thence S 0°05′50″ E, a distance of 304.96 feet along the East side of said document to the Northerly Right-of-Way of U.S. Hwy 12; thence S 71°19′21″ E, a distance of 647.99 feet along said Highway Right-of-Way; thence N 0°12′16″ W, a distance of 511.21 feet along the West side of a tract described in document number 88616; thence S 89°54′17″ E, a distance of 295.26 feet along the North line of the SW Quarter of said section 10; thence S 1°22′57″ E, a distance of 160.93 feet along the East side of a tract described in document number 88616; thence S 86°43′07″ E along the North side of a tract described in document number 122157, a distance of 260.70 feet; thence S 54°54′35″ E along the Northeast side of a tract described in document number 137068, a distance of 547.96 feet; thence S 0°03′34″ E along the East side of said document, a distance of 372.30 feet to said Highway Right-of-Way; thence S 71°16′49″ E, a distance of 1,440.89 feet along said Highway Right-of-Way; thence N 8°30′03″ E, a distance of 436.22 feet along the West side of Anderson′s First Addition; thence N 8°15′25″ E, a distance of 261.34 feet along the West side of Anderson′s First Addition; thence N 54°53′39″ W, a distance of 1,479.76 feet along the Southwest side of a tract described in document number 103805; thence N 54°56′11″ W, a distance of 314.49 feet along the South side of Lot 11 of Wiffler′s First Addition; thence N 54°58′24″ W, a distance of 1,635.30 feet along the South side of a tract described in document number 179431; thence N 0°32′32″ E, a distance of 555.00 feet along the South side of said document; thence S 50°03′56″ W, a distance of 473.70 feet along the South side of said document; thence N 54°58′24″ W, a distance of 1154.80 feet along the South side of said document to the West Section line of said Section 10; thence N 0°03′06″ W, a distance of 227.10 feet along the West line of said Section 10 to the point of beginning.

Said tract contains 160.8 acres, more or less.

And a tract of land located in the Southeast Quarter of Section 4, T131N, R102W of the 5th P.M., more particularly described as follows: Beginning at the SE corner of said Section 4, thence N 00°05′21″ W, a distance of 43.06 feet to a point on the north right of way line of the South Dakota Railroad Authority (aka BNSF Railway); thence N 75°00′21″ W, a distance of 1310.55 feet along the north right of way line of said railroad to the True Point of Beginning; thence N 75°00′21″ W, a distance of 707.50 feet along the north right of way line of said railroad: thence N 35°05′00″ E, a distance of 342.68 feet; thence S 46°23′09″ E, a distance of 671.89 feet to the True Point of Beginning, excepting a tract of land described as follows: Beginning at a point 1,856.5 feet west of and 701.9 feet north of the SE corner of said Section 4; thence S 49°13′ E, a distance of 350.0 feet more or less to the north right of way line of the Chicago, Milwaukee, St. Paul, and Pacific Railroad Co. (aka BNSF Railway) as the same is platted and constructed across said Section 4; thence on a bearing of N 74°54′ W along the north right of way line of said railroad, a distance of 370.6 feet; thence N 35°05′ E, a distance of 161.0 feet to the point of beginning, less Railroad Right of Way.

Said tract contains 1.91 acres, more or less.

The total BPP land described above equals 162.71 acres, more or less.

Issued in Minneapolis, MN, on November 30, 2016.
Andy Peek,
Manager, Dakota-Minnesota Airports District Office, FAA, Great Lakes Region.

[FR Doc. 2016-29773 Filed 12-12-16; 8:45 am]

BILLING CODE 4910-13-P